DEPARTMENT OF TRANSPORTATION

Office of the Secretary

49 CFR Part 1

[OST Docket No. 1999-6189; Amendment 1-305]

RIN 1999-AA51

Organization and Delegation of Powers and Duties; Delegations to the Maritime Administrator

AGENCY: Department of Transportation, Office of the Secretary.

ACTION: Final rule.

SUMMARY: The Secretary of Transportation (Secretary) is delegating to the Maritime Administrator the authorities delegated to the Secretary by the President under section 1019 of Public Law 109-364 dated October 17, 2006, and entitled The John Warner National Defense Authorization Act for Fiscal Year 2007.

EFFECTIVE DATE: July 31, 2007.

FOR FURTHER INFORMATION CONTACT: Richard Weaver, Director, Office of Management Services, Maritime Administration, MAR-310, Room W26-310, 1200 New Jersey Ave., SE., Washington, DC 20590, Phone: (202) 366-2811.

SUPPLEMENTARY INFORMATION: The President delegated his authority under section 1019 of Public Law 109-364 to the Secretary of Transportation (Secretary) by Memorandum dated February 15, 2007 (published in the Federal Register on February 20, 2007 (72 FR 7819)). The Secretary is further delegating this authority to the Maritime Administrator. This delegation authorizes the Maritime Administrator: (1) To transfer the ex-Liberty ship SS Arthur M. Huddell (Vessel) to the Government of Greece in accordance with such terms and conditions as appropriate; (2) to convey additional equipment from obsolete vessels of the National Defense Reserve Fleet (NDRF) in order to assist the Government of Greece in using the vessel as a museum exhibit; and (3) to require, to the maximum extent practicable, as a condition of the transfer of the Vessel, that the Government of Greece have such repair or refurbishment of the Vessel as is needed performed at a shipyard located in the United States. The Secretary is delegating this authority to the Maritime Administrator because the vessel is in the custody of the Maritime Administration and falls within the purview of the Maritime Administration's statutory mission to dispose of the vessels in the NDRF as appropriate.

This final rule adds paragraph (hh) to 49 CFR 1.66 to reflect the Secretary of Transportation's delegation of these authorities. Since this rulemaking relates to departmental organization, procedure and practice, notice and comment are unnecessary under 5 U.S.C. 553(b). Further, since the rulemaking expedites the Maritime Administration's ability to meet the statutory intent of the applicable laws and regulations covered by this delegation, the Secretary finds good cause under 5 U.S.C. 553(d)(3) for this final rule to be effective on the date of publication in the Federal Register.

List of Subjects in 49 CFR Part 1

Authority delegations (Government agencies), Organization and functions (Government agencies).

In consideration of the foregoing, part 1 of Title 49, Code of Federal Regulations is amended to read as follows:

PART 1—[AMENDED]

1. The authority citation for part 1 is revised to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 108-136, 117 Stat. 1392; Pub. L. 101-115, 103 Stat. 691; Pub. L. 108-293, 118 Stat. 1028; Pub. L. 109-364, 120 Stat. 2083.

2. Section 1.66 is amended by adding paragraph (hh) to read as follows:

§ 1.66 Delegations to Maritime Administrator.

* * * * *

(hh) Carry out the functions and exercise the authorities vested in the President by section 1019 of Pub. L. 109-364 and delegated to the Secretary by the President.

Issued at Washington, DC, this 25th day of June, 2007.
Mary E. Peters,
Secretary of Transportation.

[FR Doc. 07-3635 Filed 7-30-07; 8:45 am]

BILLING CODE 4910-62-P